FEDERAL RESERVE SYSTEM

Change in Bank Control Notices, Acquisition of Shares of Bank or Bank Holding Companies; Correction

This notice corrects a notice (FR Doc. E6-12874) published on page 45049 of the issue for Tuesday, August 8, 2006.

Under the Federal Reserve Bank of Richmond heading, the entry for Robert Milam, Jr., Robert Milam, Melissa Milam, Jada Milam, Kevin Milam, Lloyd Jarrell; and other members of the Milam family, Whitesville, West Virginia, is revised to read as follows:

A. Federal Reserve Bank of Richmond (A. Linwood Gill, III, Vice President) 701 East Byrd Street, Richmond, Virginia 23261-4528:

1. Robert Milam, Jr., to individually retain voting shares of, and Robert Milam, Jr.; Robert Milam; Melissa Milam; Jada Milam; Kevin Milam; Lloyd Jarrell; and other members of the Milam family, Whitesville, West Virginia, as a group acting in concert, to retain voting shares of Big Coal River Bancorp, Inc., Whitesville, West Virginia, and thereby indirectly retain voting shares of Whitesville State Bank, Whitesville, West Virginia.

Comments on this application must be received by September 1, 2006.

Board of Governors of the Federal Reserve System, August 17, 2006.
Robert deV. Frierson,
Deputy Secretary of the Board.

[FR Doc. E6-13893 Filed 8-22-06; 8:45 am]

BILLING CODE 6210-01-S